DEPARTMENT OF TRANSPORTATION

Federal Transit Administration

Preparation of Environmental Impact Statement(s) on Highway and Transit Improvements in the North-Hardy Corridor Extending Along and Between Interstate 45 (IH 45) and Hardy Toll Road From SH 242 in Southern Montgomery County, Texas to Spur 527 (Louisiana Street Exit From US 59 South), Harris County

AGENCY: Federal Transit Administration and Federal Highway Administration, DOT.

ACTION: Notice of intent to prepare an Environmental Impact Statement(s).

SUMMARY: The Federal Transit Administration (FTA) and Federal Highway Administration (FHWA), in cooperation with the Metropolitan Transit Authority of Harris County (METRO), the Texas Department of Transportation (TxDOT), and the Houston-Galveston Area Council (H-GAC), intend to prepare one or more Environmental Policy Act (NEPA) to evaluate highway and transit improvements in the North-Hardy Corridor of the Houston metropolitan area.

The EIS(s) will be prepared following completion of studies of potential transportation improvements in the North-Hardy Corridor of the Houston metropolitan area. The planning studies will conclude with the selection of a Locally preferred Investment Strategy (LPIS) that may identify both transit and highway improvements to be implemented in the corridor. Transit and highway improvements selected for implementation will be evaluated in the EIS. If the selected investments are in proximity to each other (i.e. within the same right-of-way) it is likely that a single EIS will be prepared. If the selected investments are in different locations, two EIS will be prepared. If the selected investments are in different locations, two EIS documents may be prepared. The decision about the number of EIS documents to be prepared will be determined at the conclusion of the planning studies. The EIS(s) will evaluate the potential impacts of the selected investment strategy (the Build Alternative) and a No Build Alternative.

The sequence of events for the planning and development for this project include the following major milestones:

• Scoping Process—early opportunity for public input to the study scope and project alternatives. Scoping will be accomplished with a series of public meetings and through correspondence with interested persons, organizations, and Federal, State and local agencies.

• Planning Studies—evaluation of proposed improvement alternatives, early consideration of environmental factors, concluding with the selection of a LPIS. A decision on the number of EIS documents to be prepared will occur at the conclusion of the planning studies.

• Conceptual Engineering and Draft Environmental Impact Statement (EIS)—conceptual definition of the alternatives to be evaluated including their physical features and potential impacts, consideration of mitigation measures, preparation and circulation of the Draft EIS(s) comment period, and preparation of the Final EIS(s).

• Preliminary Engineering and Final EIS—detailed definition of the proposed alternative's physical features, assessment of potential impacts, development of selected mitigation measures, responses to comments offered during the Draft EIS(s) comment period, and preparation of the Final EIS(s).

DATES: Comment Due Date: Written comments on the scope of alternatives and impacts considered should be sent to the Metropolitan Transit Authority of Harris County by March 15, 2002. See ADDRESSES Below.

Scoping Meetings: Public Scoping meetings for the North-Hardy Corridor will be held on February 5th, February 6th, February 13th, February 20th and February 27th, 2002. See ADDRESSES below for meeting times and locations.

All scoping meetings will be held in wheelchair-accessible locations. Any person who requires language interpretation or special communication accommodations is encouraged to contact the project's public participation coordinator at 713-739-6049 at least 72 hours prior to the meeting. Every reasonable effort will be made to meet your needs. Scoping information material will be available at the meetings and may also be obtained in advance of the meetings by contacting the public participation coordination or by contacting METRO at the address or e-mail identified in ADDRESSES below. Oral and written comments may be given at the scoping meetings. A court reporter will record all comments.

ADDRESSES: Written comments should be sent to METRO Mobility 2025, Rm 21034, PO Box 61429, Houston, Texas 77208-1429. E-mail: north-hardy@ridemetro.org. Scoping meetings will be held at the following locations:

1. February 5, 2002, Wesley Community Center—Social Hall, 1410 Lee Road, Houston, Texas 77009, 4:30-7:30 p.m.

2. February 6, 2002, Northline Mall—Community Room (316), Interstate-45 at Crosstimbers, Houston, Texas 77022, 4:30-7:30 p.m.

3. February 13, 2002, North-Harris Montgomery Community College, Student Center—South Dining Room, 2700 W. W. Thorne Blvd., 4:30-7:30 p.m.

4. February 20, 2002, Houston Community College System, Administration Auditorium, 3100 Main Street at Elgin, 4:30-7:30 p.m.

5. February 27, 2002, Houston-Galveston Area Council, 3555 Timmons Lane—2nd Floor, 3:00-5:00 p.m. Agency Scoping Meeting, Conference Room A, 5:00-7:00 p.m. Open House, Conference Room B.

FOR FURTHER INFORMATION CONTACT: Mr. Jesse Balleza, Community Planner, FTA, Region VI 819 Taylor Street, Fort Worth, Texas 76102, Telephone (817) 978-0550 or Mr. John Mack, District Engineer, FHWA, 300 East 8th Street, Suite 826, Austin, TX 78701, Telephone: 512-536-5960.

SUPPLEMENTARY INFORMATION:

I. Scoping

FTA, FHWA, METRO, TxDOT, and the Houston-Galveston Area Council (H-GAC) invite all interested individuals and organizations, and Federal, State, regional, and local agencies to participate in defining the alternatives to be evaluated and identifying social, economic, or environmental issues related to the alternatives. During scoping, comments should focus on identifying specific, social, economic, or environmental impacts to be evaluated, and suggesting alternatives that may be less costly or have less environmental impacts, but achieve similar objectives. Comments during scoping should focus on the issues and alternatives for analysis, and not on a preference for a particular alternative. Individual preference for a particular alternative should be communicated through the planning process and during the comment period for the Alternatives Analysis Report.

Prior to initiating the EIS(s), planning studies will identify a LPIS that is anticipated to include transit and highway components. Interested individuals, organizations, and Federal, State, and local agencies are invited to participate in refining the purpose, alternatives, schedule, and analysis approach, as well as participate in the active public involvement program throughout the planning process and project implementation. The public is invited to comment on corridor needs and alternatives to be addressed; modes and technologies to be evaluated; alignments and station locations; the environmental, social, and economic impact to be analyzed; and the evaluation approach to be used to select a LPIS. The scoping process will provide input to the process to be used for the evaluation of alternatives during the planning process and the early identification of environmental issues to be considered during the planning studies and in the EIS(s).

Scoping activities are being initiated at the outset of the planning studies, in advance of the EIS(s), to maximize the opportunity for public involvement in the consideration of alternatives and reaching decisions about the transportation investments that will be advanced into the EIS phase of project development.

II. Description of the Project Area and Needed

Planning studies for the North-Hardy Corridor will be initiated in a broadly defined study area in Harris and Montgomery counties, Texas, extending along and between IH 45 and the Hardy Toll Road from SH 242 on the north to Spur 527 (Louisiana Street exit from US 59 South). The North Hardy Corridor includes adjacent communities as well as the George Bush Intercontinental Airport and connects the rapidly growing northern suburbs and the re-developing northside neighborhoods to downtown and other significant activity centers in Houston.

Some areas of IH 45 do not meet accepted modern highway design criteria and congestion is a persistent problem throughout the corridor. A multi-modal approach to expanding transit and highway capacity within the corridor is to be considered.

III. Alternatives

In accordance with NEPA, a public scoping process will be initiated to identify corridor needs and alternatives. The scoping process will provide the basis for the evaluation of alternatives as part of the planning studies, and the selection of LPIS and implementation program. The planning studies will consider a variety of multi-modal highway and transit options in the corridor based on input received during the scoping process. It is expected that the LPIS will be a combination of one or more alternative options identified. Subsequent to the selection of the LPIS, the selected alternatives will be refined and documented in the EIS(s). It may be necessary to prepare more than one EIS for the North Hardy Corridor based on the outcome of the planning studies. At a minimum, the alternatives to be considered in the planning studies include:

▪ No Build Alternative;

▪ Extension of the Light Rail Transit line currently under construction in Downtown Houston;

▪ Commuter Rail along existing railroad facilities in the corridor;

▪ Highway upgrades or expansion; and

▪ HOV system improvements.

Additional reasonable Build Alternatives suggested during the scoping process, including those involving other modes, may be considered.

IV. Probable Effects and Potential Impacts for Analysis

FTA, FHWA, METRO, TxDOT, and H-GAC will evaluate all social, economic and environmental impacts of the alternatives analyzed in the EIS(s). Impacts may include: Land use, zoning, and economic development; secondary development; cumulative impacts; land acquisition, displacements, and relocation of existing uses; historic, archaeological, and cultural resources; parklands and recreation areas; visual and aesthetic qualities; neighborhoods and communities; environmental justice; air quality; noise and vibration; hazardous materials; ecosystems (threatened and endangered species); water resources; energy; construction impacts; safety and security; utilities; finance; and transportation impacts. The impacts will be evaluated both for the construction period and for the long-term period of operation of each alternative. Measures to mitigate adverse impacts will be identified.

V. FTA/FHWA Procedures

In accordance with FTA/FHWA policy, all federal laws, regulations and executive orders affecting project development, including but not limited to the regulations of the Council on Environmental Quality and FTA implementing NEPA (40 CFR parts 1500-1508 and 23 CFR part 771), the 1990 Clean Air Act Amendments, section 404 of the Clean Water Act, Executive Order 12898 regarding environmental justice, the National Historic Preservation Act, the Endangered Species Act, and section 4(f) of the Department of Transportation Act, will be addressed to the maximum extend practicable during the NEPA process.

Issued on: January 2, 2002.
Robert C. Patrick,
Regional Administrator, Federal Transit Administration, Region VI, Fort Worth, Texas.

[FR Doc. 02-556 Filed 1-8-02; 8:45 am]

BILLING CODE 4910-57-M